SURFACE TRANSPORTATION BOARD

[Docket No. MCF 21126]

TBL Group, Inc.—Acquisition of Control—Reston Limousine & Travel Service, Inc.

AGENCY: Surface Transportation Board.

ACTION: Notice tentatively approving and authorizing finance transaction.

SUMMARY: TBL Group, Inc. (TBL Group), a holding company that owns multiple interstate motor passenger carriers, has filed an application for Board approval of its acquisition of an additional federally regulated motor passenger carrier, Reston Limousine & Travel Service, Inc. (Reston). The Board is tentatively approving and authorizing the transaction. If no opposing comments are timely filed, this notice will be the final Board action.

DATES: Comments must be filed by March 31, 2025. If any comments are filed, TBL Group may file a reply by April 15, 2025. If no opposing comments are filed by March 31, 2025, this notice shall be effective on April 1, 2025.

ADDRESSES: Comments, referring to Docket No. MCF 21126, may be filed with the Board either via e-filing on the Board's website or in writing addressed to: Surface Transportation Board, 395 E Street SW, Washington, DC 20423-0001. In addition, send one copy of comments to TBL Group's representative: Andrew K. Light, Scopelitis, Garvin, Light, Hanson & Feary, P.C., 10 W Market Street, Suite 1400, Indianapolis, IN 46204.

FOR FURTHER INFORMATION CONTACT: Nathaniel Bawcombe at (202) 245-0376. If you require an accommodation under the Americans with Disabilities Act, please call (202) 245-0245.

SUPPLEMENTARY INFORMATION: On November 25, 2024, TBL Group filed an application under 49 U.S.C. 14303 and 49 CFR part 1182, for Board approval of its acquisition of Reston, a federally registered motor passenger carrier. (Appl. 1, 4.) On January 15, 2025, TBL Group filed a supplement to its application, clarifying certain information as requested by the Board.¹

¹ In Docket No. MCF 21122, TBL Group had sought Board authority to acquire JKS Limousines, LLC (JKS), which, according to prior TBL Group filings, appeared to do business as Windy City Limousine Company, LLC. In a decision served December 20, 2024 in this docket, TBL Group was directed to clarify a possible inconsistency between its voluntary dismissal of its application in Docket No. MCF 21122 and subsequent news reports indicating that TBL Group had indeed acquired Windy City Limousine Company, LLC. In its January 15, 2025 supplement, TBL Group explained that it had determined that the assets it had sought to acquire in Docket No. MCF 21122 were not owned by JKS but by other entities, Windy City Limousine Company, LLC, and Windy City Limousine Manager LLC (together, Windy City Limousine). (Suppl. at 2-3.) TBL Group further explained that it acquired such assets (which are now operated by TBL Group's subsidiary Echo Windy) from Windy City Limousine in September 2024 without Board approval, because at that time Windy City Limousine provided only intrastate service and did not possess interstate passenger motor carrier operating authority. (Id. at 4-5.)

According to the application, TBL Group is a Texas corporation, headquartered at 15734 Aldine Westfield Road, Houston, TX 77032. (Id. at 1.) TBL Group asserts it is not a federally regulated carrier. (Id. at 2.) The application further states that TBL Group controls three interstate passenger motor carriers: GBJ Inc. (GBJ), Echo East Coast Transportation LLC (Echo East Coast), and Echo Tours & Charters, LP. (Echo Tours). (Id. at 2-3, Exs. A, B.) TBL Group states that GBJ is a Texas corporation doing business as Echo AFC Transportation and primarily provides charter and shuttle services for companies, non-profits, schools, and tour operators in Houston, Tex., but also provides interstate charter passenger transportation service. (Id. at 2.) Echo East Coast is described in the application as a Texas limited liability company primarily providing interstate and intrastate charter services in the area of Jacksonville, Fla. (Id. at 3.) Echo Tours is described by TBL Group as a Texas limited partnership doing business as Echo Transportation, that primarily provides charter and shuttle services for companies, non-profits, schools, and tour operators in the metropolitan area of Dallas, Tex., but also provides interstate charter passenger transportation. (Id.) TBL Group also asserts in its supplement that it owns one intrastate carrier, Echo Windy City, LLC (Echo Windy),² which does business as Echo Windy City Transportation and provides intrastate charter services in Illinois, primarily in the metropolitan area of Chicago. (Suppl. at 2-3.) The application states that, except for GBJ, Echo East Coast, Echo Tours, and Reston, there are no other affiliated interstate carriers involved in the application. (Appl. at 5; Suppl. at 2-4.)

² In its January 15 supplement, TBL Group states that Echo Windy recently obtained interstate passenger motor carrier authority from the Federal Motor Carrier Safety Administration (FMCSA) but then filed with FMCSA to voluntarily revoke that authority upon being advised that Echo Windy's becoming an interstate carrier under TBL Group's control also would require Board approval pursuant to 49 U.S.C. 14303. (Suppl. at 3.) TBL Group states that Echo Windy was evaluating whether interstate authority would be desirable, and that, if found so, TBL Group would seek appropriate authority from the Board. (Id.) Shortly thereafter, on January 21, 2025, TBL Group did in fact file, in Docket No. MCF 21129, an application to control Echo Windy as an interstate carrier, which the Board will address in a separate decision in that docket.

TBL Group describes Reston as a Virginia corporation that operates as a motor carrier of passengers primarily providing shuttle services under contracts for companies, government agencies, schools/universities, and other organizations. (Appl. at 3.) The application states that Reston also provides general charter services for companies, embassies, government agencies, retail customers, schools/universities, and other organizations for activities such as tours, to/from airport, weddings, athletics, and other group transportation activities. (Id. at 3-4.) Reston's primary service area is described as the Washington, DC, metropolitan area, including the federal district and the states of Maryland, Virginia, and West Virginia. (Id. at 4.) TBL Group asserts that Reston operates under passenger carrier authority issued by the Maryland Public Service Commission and the passenger carrier authority issued by the Virginia Department of Motor Vehicles, and authority to operate in the Washington, DC, metropolitan area issued by the Washington Metropolitan Area Transit Commission. (Id.) TBL Group states that Reston utilizes approximately 12 motor coaches with a seating capacity of up to 54 passengers, 1 school bus with a seating capacity of 16 or more passengers, 112 mini-buses with a seating capacity of 20 to 30 passengers, 3 vans with a seating capacity of 1 to 8 passengers, 35 vans with a seating capacity of 9 to 15 passengers, 1 limousine with a seating capacity of 9 to 15 passengers, 12 sedans, and 8 SUVs. (Id.) The application explains that TBL Group contemplates the completion of a transaction (the Contemplated Transaction) whereby TBL Group will acquire all the issued and outstanding equity stock interest of Reston, and Reston will be acquired, owned, and controlled by TBL Group. (Id. at 4, 5.)

Under 49 U.S.C. 14303(b), the Board must approve and authorize a transaction that it finds consistent with the public interest, taking into consideration at least (1) the effect of the proposed transaction on the adequacy of transportation to the public, (2) the total fixed charges resulting from the proposed transaction, and (3) the interest of affected carrier employees. Applicants have submitted the information required by 49 CFR 1182.2, including information demonstrating that the proposed transaction is consistent with the public interest under 49 U.S.C. 14303(b), see 49 CFR 1182.2(a)(7), and a jurisdictional statement under 49 U.S.C. 14303(g) that the aggregate gross operating revenues of the involved carriers exceeded $2 million during the 12-month period immediately preceding the filing of the application, see 49 CFR 1182.2(a)(5).

TBL Group asserts that granting the application is not expected to have a material, detrimental impact on the adequacy of transportation services available for the public in the Reston service area. (Appl. 7.) TBL Group anticipates that services available to the public will be improved as operating efficiencies are realized and additional services and capacity are made available. (Id.) TBL Group further states that for the foreseeable future, the services currently provided by Reston will continue to be provided by Reston under the same name used to provide such services prior to the Contemplated Transaction. (Id.) TBL Group states in its application that the addition of Reston to its holdings is consistent with the practices within the passenger motor carrier industry of strong, well-managed transportation organizations adapting their corporate structure to operate several different passenger carriers within similar service markets, but in different geographic areas. (Id.) TBL Group states that its experience in the same market segments served by Reston, shuttle and charter transportation services, is expected to result in improved operating efficiencies, increased equipment utilization rates, and cost savings derived from economies of scale within the TBL Group's affiliates and will help to ensure the provision of adequate service to the public. (Id.) TBL Group also asserts the addition of Reston will enhance the viability of TBL Group and TBL Group's affiliates, which will assure the continued availability of adequate passenger transportation service for the public in the areas served by TBL Group's affiliates. (Id. at 8.)

TBL Group states that the Contemplated Transaction would increase fixed charges, in the form of interest expense, because funds will be borrowed to assist in the financing of the Contemplated Transaction. (Id.) TBL Group asserts that the increase will not impact the provision of transportation services to the public. (Id.) TBL Group further asserts that it is the current intention of TBL Group to continue the existing operations of Reston and as such, the Contemplated Transaction is not expected to have substantial impacts on employees or labor conditions. (Id.) TBL Group does not expect or contemplate a measurable reduction in force or changes in compensation levels and/or benefits, although staffing redundancies could potentially result in limited downsizing of back-office and/or managerial level personnel. (Id.)

Based on TBL Groups' representations, the Board finds that the acquisition as proposed in the application is consistent with the public interest. The application will be tentatively approved and authorized. If any opposing comments are timely filed, these findings will be deemed vacated, and, unless a final decision can be made on the record as developed, a procedural schedule will be adopted to reconsider the application. See 49 CFR 1182.6. If no opposing comments are filed by the expiration of the comment period, this notice will take effect automatically and will be the final Board action in this proceeding.

This action is categorically excluded from environmental review under 49 CFR 1105.6(c).

Board decisions and notices are available at www.stb.gov.

It is ordered:

1. The proposed transaction is approved and authorized, subject to the filing of opposing comments.

2. If opposing comments are timely filed, the findings made in this notice will be deemed vacated.

3. This notice will be effective on April 1, 2025, unless opposing comments are filed by March 31, 2025. If any comments are filed, TBL Group may file a reply by April 15, 2025.

4. A copy of this notice will be served on: (1) the U.S. Department of Transportation, Federal Motor Carrier Safety Administration, 1200 New Jersey Avenue SE, Washington, DC 20590; (2) the U.S. Department of Justice, Antitrust Division, 10th Street & Pennsylvania Avenue NW, Washington, DC 20530; and (3) the U.S. Department of Transportation, Office of the General Counsel, 1200 New Jersey Avenue SE, Washington, DC 20590.

Decided: February 11, 2025.
By the Board, Board Members Fuchs, Hedlund, Primus, and Schultz.
Brendetta Jones,
Clearance Clerk.

[FR Doc. 2025-02649 Filed 2-13-25; 8:45 am]

BILLING CODE 4915-01-P